DEPARTMENT OF TRANSPORTATION

Federal Aviation Administration

14 CFR Part 39

[Docket No. FAA-2007-28246; Directorate Identifier 2007-CE-048-AD]

RIN 2120-AA64

Airworthiness Directives; Cirrus Design Corporation Models SR20 and SR22 Airplanes

AGENCY: Federal Aviation Administration (FAA), Department of Transportation (DOT).

ACTION: Notice of proposed rulemaking (NPRM).

SUMMARY: We propose to adopt a new airworthiness directive (AD) for certain Cirrus Design Corporation (CDC) Models SR20 and SR22 airplanes. This proposed AD would require you to inspect and, as necessary, adjust the aileron and rudder rigging and would require you to modify, inspect, and, as necessary, adjust the rudder-aileron interconnect system. This proposed AD results from an on-the-ground jamming of the aileron and rudder controls on a Model SR20 airplane, which resulted in loss of rudder and aileron flight controls. We are proposing this AD to prevent the possibility of jamming of the rudder-aileron interconnect system, which may result in loss of rudder and aileron flight controls.

DATES: We must receive comments on this proposed AD by August 20, 2007.

ADDRESSES: Use one of the following addresses to comment on this proposed AD:

• DOT Docket Web site: Go to http://dms.dot.gov and follow the instructions for sending your comments electronically.

• Mail: U.S. Department of Transportation, Docket Operations, M-30, West Building Ground Floor, Room W12-140, 1200 New Jersey Avenue, SE., Washington, DC 20590.

• Fax: (202) 493-2251.

• Hand Delivery: U.S. Department of Transportation, Docket Operations, M-30, West Building Ground Floor, Room W12-140, 1200 New Jersey Avenue, SE., Washington, DC 20590, between 9 a.m. and 5 p.m., Monday through Friday, except Federal holidays.

• Federal eRulemaking Portal: Go to http://www.regulations.gov. Follow the instructions for submitting comments.

For service information identified in this proposed AD, contact Cirrus Design Corporation, 4515 Taylor Circle, Duluth, Minnesota 55811; telephone: (218) 727-2737; Internet address: http://www.cirrusdesign.com.

FOR FURTHER INFORMATION CONTACT: Wess Rouse, Aerospace Engineer, 2300 East Devon Avenue, Room 107, Des Plaines, Illinois 60018; telephone: (847) 294-8113; fax: (847) 297-7834.

SUPPLEMENTARY INFORMATION:

Comments Invited

We invite you to send any written relevant data, views, or arguments regarding this proposed AD. Send your comments to an address listed under the ADDRESSES section. Include the docket number, “FAA-2007-28246; Directorate Identifier 2007-CE-048-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We received notification from CDC of an on-the-ground jamming of the aileron and rudder controls under full rudder and aileron cross control inputs on a Model SR20 airplane. During a turn from the taxiway onto the runway for takeoff, the pilot applied full rudder and full opposite aileron for a turn with a crosswind. He then found he could no longer move the controls. Subsequent examination of the airplane revealed the rudder-aileron interconnect system had become locked between the two control cables.

This condition, if not corrected, could result in the possible jamming of the rudder-aileron interconnect system, which may result in loss of rudder and aileron flight controls.

Relevant Service Information

We have reviewed CDC Service Bulletin No. SB 2X-27-14 R1, Issued: May 9, 2007, Revised: May 24, 2007.

The service information describes procedures for inspecting the aileron and rudder rigging and modifying, inspecting, and adjusting, as necessary, the rudder interconnect system.

FAA's Determination and Requirements of the Proposed AD

We are proposing this AD because we evaluated all information and determined the unsafe condition described previously is likely to exist or develop on other products of the same type design. This proposed AD would require you to inspect and, as necessary, adjust the aileron and rudder rigging, and would require you to modify, inspect, and, as necessary, adjust the rudder-aileron interconnect system.

This proposed AD increases mechanical clearances within the rudder-aileron interconnect system and ensures correct rigging/adjustment of the ailerons, the rudder, and the rudder-aileron interconnect.

Costs of Compliance

We estimate that this proposed AD would affect 2,387 airplanes in the U.S. registry.

We estimate the following costs to do the proposed inspections, modification, and any adjustments that may be necessary based on the results of the proposed inspections:

Labor cost | Parts cost | Total cost per airplane | Total cost on U.S. operators
1 work-hour × $80 per hour = $80 | $18 | $98 | $233,926

Note: CDC will provide warranty credit to the extent noted in Service Bulletin No. SB 2X-27-14 R1, Issued May 9, 2007, Revised May 24, 2007.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cirrus Design Corporation: Docket No. FAA-2007-28246; Directorate Identifier 2007-CE-048-AD.

Comments Due Date

(a) We must receive comments on this airworthiness directive (AD) action by August 20, 2007.

Affected ADs

(b) None.

Applicability

(c) This AD applies to Model SR20 airplanes, serial numbers (SN) 1005 through 1796, and Model SR22 airplanes, SN 0002 through 2333, SN 2335 through 2419, and SN 2421 through 2437, that are certificated in any category.

Unsafe Condition

(d) This AD results from an on-the-ground jamming of the aileron and rudder controls on a Model SR20 airplane. We are issuing this AD to prevent the possibility of jamming of the rudder-aileron interconnect system, which may result in loss of rudder and aileron flight controls.

Compliance

(e) To address this problem, you must do the following, unless already done:

Actions | Compliance | Procedures
Inspect and, as necessary, adjust the aileron and rudder rigging and modify, inspect, and, as necessary, adjust the rudder-aileron interconnect system | Within the next 25 hours time-in-service (TIS) after the effective date of this AD or within the next 3 months after the effective date of this AD, whichever occurs first | Follow Cirrus Service Bulletin No. SB 2X-27-14 R1, Issued: May 9, 2007, Revised: May 24, 2007.

Note: Temporary revisions to the airplane maintenance manuals (AMM), SR20 AMM Temporary Revision No. 27-1 and SR22 AMM Temporary Revision No. 27-1, both dated May 9, 2007, contain information pertaining to this subject.

(f) Compliance will be acceptable if the above actions are done by following the procedures described in Cirrus Service Bulletin No. SB 2X-27-14, Issued: May 9, 2007. You may take “unless already done” credit, and no further action per this AD is necessary.

Alternative Methods of Compliance (AMOCs)

(g) The Manager, Chicago Aircraft Certification Office (ACO), FAA, has the authority to approve AMOCs for this AD, if requested using the procedures found in 14 CFR 39.19. Send information to ATTN: Wess Rouse, Aerospace Engineer, FAA, 2300 East Devon Avenue, Room 107, Des Plaines, Illinois 60018; telephone: (847) 294-8113; fax: (847) 297-7834. Before using any approved AMOC on any airplane to which the AMOC applies, notify your appropriate principal inspector (PI) in the FAA Flight Standards District Office (FSDO), or lacking a PI, your local FSDO.

Related Information

(h) To get copies of the service information referenced in this AD, contact Cirrus Design Corporation, 4515 Taylor Circle, Duluth, Minnesota 55811; telephone: (218) 727-2737; Internet address: http://www.cirrusdesign.com. To view the AD docket, go to the U.S. Department of Transportation, Docket Operations, M-30, West Building Ground Floor, Room W12-140, 1200 New Jersey Avenue, SE., Washington, DC 20590, or on the Internet at http://dms.dot.gov. The docket number is Docket No. FAA-2007-28246; Directorate Identifier 2007-CE-048-AD.

Issued in Kansas City, Missouri, on June 14, 2007.
Kim Smith,
Manager, Small Airplane Directorate, Aircraft Certification Service.

[FR Doc. E7-12006 Filed 6-20-07; 8:45 am]

BILLING CODE 4910-13-P